DEPARTMENT OF DEFENSE

Department of the Army; Corps of Engineers

Lake Charles Harbor and Terminal District Resolution 2002-089A Proposed Channel Users' Fee for Calcasieu River Waterway, Louisiana Project

AGENCY: U.S. Army Corps of Engineers, DOD.

ACTION: Notice.

SUMMARY: The Board of Commissioners of the Lake Charles Harbor and Terminal District (District) in regular session on May 13, 2002, adopted Resolution No. 2002-089A approving a proposed channel users' fee, cited herein, and authorizing the District staff to proceed with all required procedures to implement a users' fee to fund the local (non-Federal) share of the Federal Calcasieu River, Louisiana project. This is in accordance with, and as authorized by the Water Resources Development Act (WRDA) of 1986 (Pub. L. 99-662) and Louisiana Revised Statute (La. RS) 34:203(2)(a). Publication in the Federal Register is pursuant to Section 208 of the WRDA 1986 (33 U.S.C. 2236(a)(5)(B)).

FOR FURTHER INFORMATION CONTACT: Questions regarding the proposed users' fee may be directed to James L. Robinson, Director of Navigation, Lake Charles Harbor and Terminal District (337) 493-3620. Interested persons may review related studies and reports during normal work hours (8 a.m. to 12 Noon and 1 p.m. until 5 p.m., Monday through Friday except for appropriate holidays) at the offices of the Port of Lake Charles, 150 Marine Street, Lake Charles, LA 70601.

SUPPLEMENTARY INFORMATION: Having complied with State of Louisiana notice-publishing requirements of La. RS 34:203(2)(b), the proposed users' fee was developed as a method to ensure that the District could look to specified channel users to help finance its non-Federal expenditures, shares of operation and maintenance costs of the Calcasieu River Federal navigation project within the District's jurisdiction, emergency response services, contingency planning and procurement of equipment and facilities, as may be specifically authorized or controlled by the federal and state statutes. Administration, collection and enforcement will be by the District (Port of Lake Charles) through liaison with shipping agents and U. S. Customs officials. La. RS 34:203A(2)(a) authorizes that pursuant to Public Law 99-662, the Water Resources Development Act of 1986, or regulation, or if because of contractual obligations of the District with the United States of America or any agency thereof the District is required to fund the non-Federal share of dredging expenses or expenses related to the dredging of the authorized Federal navigation channel within the District, the District may regulate and impose reasonable users' fee. The users' fee shall reflect, to a reasonable degree and to the extent required by federal law, the benefits provided by the project to a particular class or type of vessel pursuant to Public Law 99-662.

The District, in compliance with state law, published a local Notice of Intent to establish commercial navigable channel users' fee for certain vessels of maximum design draught (draft) greater than 6.095 meters (20 feet) transiting any portion of the Calcasieu River Waterway ship channel. This notice announcing a public hearing to consider the users' fee was published in official journals of the Parishes comprising the District. The Board of Commissioners of the Lake Charles Harbor and Terminal District convened a public hearing on Monday, May 13, 2002 at 5 p.m. in the Board Room, 150 Marine Street, Lake Charles, Louisiana to officially consider the appropriateness of implementing the proposed Calcasieu River Waterway navigable channel users' fee.

The fee is authorized based upon expenditures of the District's past and continuing contribution to ensuring navigable channel configuration including, but not limited to, acquiring lands for dredged material disposal facilities, funding the non-Federal cost to construct dikes for dredged material disposal facilities, emergency response, related contingency planning, procurement of equipment and facilities, necessary personnel training, operation of the navigation project to include navigation-related improvements (e.g. procurement of an internet-based Harbor Management System capable of supporting/utilizing NOAA's Physical Oceanographic Real-Time data system and the U.S. Coast Guard's intended procurement of a Vessel Traffic Monitoring system, and a navigation security Automatic Identification System base station and other navigation security, safety and efficiency initiatives). Channel users' fees generated will offset the District's incurred expenses associated with completed navigation projects not to exceed actual accrued District expenditures. The fee would not be duplicitous with federal Harbor Maintenance Tax assessments incurred under Public Law 99-662 (26 U.S.C 4461), as amended.

Exempted vessels include:

Vessels owned and operated by the United States Government, a foreign country, a state, or a political subdivision of a country or state, unless engaged in commercial services; towing vessels; vessels engaged in dredging activities; vessels engaged in intraport movements; and vessels with design draught (draft) of 20 feet (6.095 meters) or less.

The following is a proposed fee schedule, for vessels calling on non-public Calcasieu River ship terminals under the jurisdiction of the District:

Length Overall (LOA) in meters × Design Draught (DRAFT) in Meters × ($0.1)= $Users” Fee

Example: 280 meters(LOA) × 11 meters draft × $0.1= $308.00

The design draught (draft) as indicated in “Lloyds Register of Shipping,” if exceeding forty feet (40′) or 12.189 meters, will be limited to 12.189 meters for this fee computation for vessels other than heavylift vessels conducting loading or offloading evolutions in the Cameron Hole.

Users' fee at the aforementioned rates, charged to applicable vessels calling on public Calcasieu River terminals under the jurisdiction of the District, will be specifically accounted for within the dockage tariff.

Under 33 U.S.C. 2236(a)(5), a public hearing on the proposed harbor users' fee is scheduled for December 9, 2002 commencing at 5 p.m. in the Board Room, 150 Marine Street, Lake Charles, Louisiana. Upon completion of the public hearing and public comment period, the Board is directed to transmit the final fee schedule concurrently to the Army Corps of Engineers New Orleans District Engineer, Director of Civil Works Corps Headquarters, the Assistant Secretary of the Army for Civil Works, and to the Federal Maritime Commission in the form of the adopted Resolution.

Under 33 U.S.C. 2236(a)(6) public comments concerning the proposed harbor users' fee should be directed in writing to James L. Robinson, Director of Navigation, Lake Charles Harbor and Terminal District, PO Box 3753, Lake Charles, Louisiana 70602. Tel. (337) 493-3620. The public comment period will close upon the close of business at 5 p.m., December 20, 2002. Written comments must be received by the District on or before that date in order to be considered by the Board prior to taking final action on the proposed harbor usage fee.

* * * * *

Dated: September 27, 2002.
Michael J. Walsh,
Colonel, U.S. Army, Executive Director of Civil Works.

[FR Doc. 02-26644 Filed 10-18-02; 8:45 am]

BILLING CODE 3710-92-P